DEPARTMENT OF TRANSPORTATION

Federal Aviation Administration

14 CFR Part 71

[Docket No. FAA-2014-0878; Airspace Docket No. 14-AWP-10]

RIN 2120-AA66

Amendment of Class D and Class E Airspace, and Establishment of Class E Airspace; Honolulu, HI

AGENCY: Federal Aviation Administration (FAA), DOT.

ACTION: Final rule.

SUMMARY: This action amends Class D airspace, and Class E airspace extending upward from 700 feet above the surface, and establishes Class E surface area airspace at Wheeler Army Airfield (AAF), Honolulu, HI. This action also updates the airport name and geographic coordinates in the associated Class D and E airspace areas to match the FAA's aeronautical database, and replaces outdated language in the airspace description, and makes an editorial change to the airspace designations.

DATES: Effective 0901 UTC, April 25, 2019. The Director of the Federal Register approves this incorporation by reference action under Title 1 Code of Federal Regulations part 51, subject to the annual revision of FAA Order 7400.11 and publication of conforming amendments.

ADDRESSES: FAA Order 7400.11C, Airspace Designations and Reporting Points, and subsequent amendments can be viewed online at http://www.faa.gov/air_traffic/publications/. For further information, you can contact the Airspace Policy Group, Federal Aviation Administration, 800 Independence Avenue SW, Washington, DC 20591; telephone: (202) 267-8783. The Order is also available for inspection at the National Archives and Records Administration (NARA).

For information on the availability of this material at NARA, call (202) 741-6030, or go to https://www.archives.gov/federal-register/cfr/ibr-locations.html.

FAA Order 7400.11, Airspace Designations and Reporting Points, is published yearly and effective on September 15.

FOR FURTHER INFORMATION CONTACT: Richard Roberts, Federal Aviation Administration, Operations Support Group, Western Service Center, 2200 S 216th Street, Des Moines, WA 98198; telephone (206) 231-2245.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends Class D and Class E airspace and establishes Class E surface area airspace at Wheeler AAF, Honolulu, HI., to support IFR operations at the airport.

History

The FAA published a notice of proposed rulemaking in the Federal Register (83 FR 34956; July 24, 2018) for Docket No. FAA-2014-0878 to modify Class D airspace, and Class E airspace extending upward from 700 feet above the surface, and establish Class E surface area airspace at Wheeler Army Airfield (AAF), Honolulu, HI. Interested parties were invited to participate in this rulemaking effort by submitting written comments on the proposal to the FAA. One comment was received expressing concerns about impacts to the “south practice area,” potential impacts to Wheeler AAF Air Traffic Control Tower (ATCT), and the potential for increased airspace incursions by student pilots.

The FAA determined that the concerns identified, concerning south practice and Wheeler ATCT were identified and mitigated through the Safety Risk Management Panel held April 17 and 18, 2018, with representatives from the general aviation and air traffic control communities. The FAA will develop and conduct airspace briefings for VFR pilots, review and update the Chart Supplement graphic for transiting Wheeler AAF airspace, and review and update flight procedures for VFR arrivals to Honolulu International Airport.

The commenter also noted that specific charting notation, denoting the floor/shelf of the Wheeler AAF Class D airspace, on both paper and electronic map formats. The FAA VFR sectional will clearly outline the lateral boundaries and altitudes associated with the modifications. The FAA agrees that electronic data is increasingly used by pilots as their source of aviation information. The FAA recommends all pilots ensure that the programs they use to acquire aviation information use only FAA-certified data sources for the basis of their products and that they are maintained and up to date.

Lastly, the commenter requested a modification to the Class D airspace that did not “encroach so heavily into the busy south practice area”, that may require increased communication with Wheeler ATCT. The FAA worked with representatives from the general aviation, commercial/tour industry and military users, and Wheeler ATCT and Honolulu Control Facility air traffic personnel, over the course of nearly 4 years to develop this airspace. The FAA appreciates the potential for increased radio contact between the ATCT and transiting traffic however, the boundary changes are necessary to ensure aircraft operating under instrument flight rules have adequate protection.

Class D and Class E airspace designations are published in paragraph 5000, 6002, and 6005, respectively of FAA Order 7400.11C, dated August 13, 2018, and effective September 15, 2018, which is incorporated by reference in 14 CFR 71.1. The Class E airspace designation listed in this document will be published subsequently in the Order.

Availability and Summary of Documents for Incorporation by Reference

This document amends FAA Order 7400.11C, Airspace Designations and Reporting Points, dated August 13, 2018, and effective September 15, 2018. FAA Order 7400.11C is publicly available as listed in the ADDRESSES section of this document. FAA Order 7400.11C lists Class A, B, C, D, and E airspace areas, air traffic service routes, and reporting points.

The Rule

The FAA is amending Title 14 Code of Federal Regulations (14 CFR) part 71 by modifying Class D airspace, Class E airspace extending upward from 700 feet above the surface, and establishing Class E surface area airspace at Wheeler AAF, Honolulu, HI.

Class D airspace extending upward from the surface to and including 3,300 feet MSL is modified to within a 2.6-mile radius of Wheeler AAF, then extend to a 3.7-mile radius from the southeast to the southwest, adjoining the boundary of Restricted Area R-3109 to the west, excluding that airspace below 1,800 feet MSL beyond 3.3 miles from the airport from the 89° bearing clockwise to the 218° bearing from the airport.

Class E surface area airspace is established to be coincident with the lateral dimensions of the Class D airspace, and is effective continuously to provide protection to instrument procedures.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a Regulatory Evaluation as the anticipated impact is so minimal. Since this is a routine matter that only affects air traffic procedures and air navigation, it is certified that this rule, when promulgated, will not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order 7400.11C, Airspace Designations and Reporting Points, dated August 13, 2018, and effective September 15, 2018, is amended as follows:

Paragraph 5000 Class D Airspace.

* * * * *

AWP HI D Honolulu, HI [Amended]

Wheeler AAF, HI

(Lat. 21°28′53″ N, long. 158°02′16″ W)

That airspace extending upward from the surface to and including 3,300 feet MSL bounded by a line from lat. 21°31′03″ N, long. 158°04′30″ W; to lat. 21°31′24″ N, long. 158°03′00″ W, thence clockwise along a 2.6-mile radius of Wheeler AAF to lat. 21°30′33″ N, long. 158°00′07″ W; to lat. 21°28′41″ N, long. 157°58′19″ W, thence clockwise along a 3.7-mile radius of the airport to lat. 21°25′46″ N, long. 158°04′24″ W; to lat. 21°26′52″ N, long. 158°04′31″ W; to lat. 21°27′17″ N, long. 158°05′45″ W; to lat. 21°29′14″ N, long. 158°04′50″ W; to lat. 21°30′18″ N, long. 158°03′59″ W; thence to the point of beginning, excluding that airspace below 1,800 feet MSL beyond 3.3 miles from the airport from the 89° bearing clockwise to the 218° bearing from the airport. This Class D airspace area is effective during the specific dates and times established in advance by a Notice to Airmen. The effective date and time will thereafter be continuously published in the Pacific Chart Supplement.

Paragraph 6002 Class E Airspace Designated as Surface Areas.

* * * * *

AWP HI E2 Honolulu, HI [New]

Wheeler AAF, HI

(Lat. 21°28′53″ N, long. 158°02′16″ W)

That airspace extending upward from the surface bounded by a line from lat. 21°31′03″ N, long. 158°04′30″ W; to lat. 21°31′24″ N, long. 158°03′00″ W, thence clockwise along a 2.6-mile radius of Wheeler AAF to lat. 21°30′33″ N, long. 158°00′07″ W; to lat. 21°28′41″ N, long. 157°58′19″ W, thence clockwise along a 3.7-mile radius of the airport to lat. 21°25′46″ N, long. 158°04′24″ W; to lat. 21°26′52″ N, long. 158°04′31″ W; to lat. 21°27′17″ N, long. 158°05′45″ W; to lat. 21°29′14″ N, long. 158°04′50″ W; to lat. 21°30′18″ N, long. 158°03′59″ W; thence to the point of beginning; excluding that airspace below 1,800 feet MSL beyond 3.3 miles from the airport from the 89° bearing clockwise to the 218° bearing from the airport.

Paragraph 6005 Class E Airspace Areas Extending Upward From 700 Feet or More Above the Surface of the Earth.

* * * * *

AWP HI E5 Honolulu, HI [Amended]

Wheeler AAF, HI

(Lat. 21°28′53″ N, long. 158°02′16″ W)

That airspace extending upward from 700 feet above the surface within a 4.2-mile radius of Wheeler AAF, excluding that portion within Restricted Area R-3109, when active.

Issued in Seattle, Washington, on January 30, 2019.
Shawn Kozica,
Group Manager, Operations Support Group, Western Service Center.

[FR Doc. 2019-02069 Filed 2-12-19; 8:45 am]

BILLING CODE 4910-13-P